DEPARTMENT OF HEALTH AND HUMAN SERVICES

National Institutes of Health

Government-Owned Inventions; Availability for Licensing

AGENCY: National Institutes of Health, Public Health Service, DHHS.

ACTION: Notice.

SUMMARY: The invention listed below is owned by an agency of the U.S. Government and is available for licensing in the U.S. in accordance with 35 U.S.C. 207 to achieve expeditious commercialization of results of federally-funded research and development. Foreign patent applications are filed on selected inventions to extend market coverage for companies and may also be available for licensing.

ADDRESS: Licensing information and copies of the U.S. patent application listed below may be obtained by contacting Susan S. Rucker, J.D., at the Office of Technology Transfer, National Institutes of Health, 6011 Executive Boulevard, Suite 325, Rockville, Maryland 20852-3804; telephone: 301/496-7056 ext. 245; fax: 301/402-0220; e-mail: ruckers@od.nih.gov. A signed Confidential Disclosure Agreement will be required to receive a copy of the patent application.

HGF-SF Monoclonal Antibody Combinations

B Cao, S Koochekpou, M Oskarsson, D Bjurickovic, M Fivash, R Fisher and GR Vande Woude (NCI)

Serial No. 60/164,173 filed 09 Nov 1999

The invention described and claimed in this application relates to a composition which comprises a combination of two or more antibodies which specifically bind one or more epitopes of the growth factor known as hepatocyte growth factor/scatter factor (HGF/SF) which is able to inhibit HGF/SF signaling. In particular, the antibodies which specifically bind to HGF/SF are monoclonal antibodies. Hepatocyte Growth Factor (HGF) activates migration and proliferation of endothelial cells and is angiogenic, acting through the tyrosine kinase receptor encoded by the Met protooncogene. In addition, HGF/SF displays a unique feature in inducing “branching morphogenesis”, a complex program of proliferation and motogenesis in a number of different cell types. Moreover, HGF is involved in the invasive behavior of several tumor cells both in vivo and in vitro. This combination of antibodies may be useful in drug screening assays, detection of HGF/SF expression or activity or in treating HGF/SF related diseases such as cancer.

Dated: September 21, 2000.
Jack Spiegel,
Director, Division of Technology Development and Transfer Office of Technology Transfer National Institutes of Health.

[FR Doc. 00-25176 Filed 9-29-00; 8:45 am]

BILLING CODE 4140-01-P